ENVIRONMENTAL PROTECTION AGENCY

[EPA-HQ-OPP-2021-0288; FRL-12692-01-OCSPP]

Agency Information Collection Activities; Proposed Renewal Collection and Request for Comment; Certification of Pesticide Applicators

AGENCY: Environmental Protection Agency (EPA).

ACTION: Notice.

SUMMARY: In compliance with the Paperwork Reduction Act (PRA), this document announces the availability of and solicits public comment on the following Information Collection Request (ICR) that EPA is planning to submit to the Office of Management and Budget (OMB): Certification of Applicators (EPA ICR No. 0155.17 and OMB Control No. 2070-0029). This ICR represents a renewal of an existing ICR that is currently approved through August 31, 2026. Before submitting the ICR to OMB for review and approval under the PRA, EPA is soliciting comments on specific aspects of the information collection that is summarized in this document. The ICR and accompanying material are available in the docket for public review and comment.

DATES: Comments must be received on or before January 20, 2026.

ADDRESSES: Submit your comments, identified by docket identification (ID) number Docket ID No. EPA-HQ-OPP-2021-0288, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Office of Program Support (Mail Code 7602M), Office of Chemical Safety and Pollution Prevention, Environmental Protection Agency, 1200 Pennsylvania Ave. NW, Washington, DC 20460-0001; telephone number: 202-566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Certification of Pesticide Applicators

EPA ICR No.: 0155.17

OMB Control No.: 2070-0029

ICR Status: This ICR is currently approved through August 31, 2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: EPA administers certification programs for pesticide applicators under section 11 of the Federal Insecticide, Fungicide, and Rodenticide Act (FIFRA). FIFRA allows EPA to classify a pesticide as “restricted use” if the pesticide meets certain toxicity or risk criteria. The regulations in 40 CFR part 171 include procedures for certification programs for States, Federal agencies, Indian tribes, or U.S. territories who wish to develop and implement their own certification plans and programs, after obtaining EPA approval. This ICR addresses the paperwork activities performed by respondents to comply with training and certification requirements associated with applicators of restricted use pesticides (RUPs). Due to the potential of improperly applied RUPs to harm human health or the environment, pesticides under this classification may be purchased and applied only by “certified applicators” or by persons under the direct supervision of certified applicators. Currently all 50 states, the District of Columbia, 6 territories, 4 tribes and 5 federal agencies are authorized to run their own certification programs within their jurisdictions, but each agency's certification plan must be approved by EPA before it can be implemented. Agencies authorized by EPA to administer a certification program are collectively referred to as “authorized agencies.” In areas where no authorized agency has jurisdiction, EPA may administer a certification program directly, (e.g., Federal program). Federal programs require RUP dealers to maintain records of RUP sales and to report and update their names and addresses with the pesticide regulatory agency for enforcement purposes. This ICR also addresses how registrants of certain pesticide products are expected to perform specific, special paperwork activities, to comply with the terms and conditions of the pesticide registration (e.g., registrants of anthrax-related pesticide products).

The ICR, which is available in the docket along with other related materials, provides a detailed explanation of the collection activities and the burden estimate that is only briefly summarized here:

Form number(s): EPA Form 8500-017 and EPA Form EPA-PFN-3400-5.

Respondents/affected entities: Entities potentially affected by this ICR include agricultural establishments, pest control officials, pesticide registrants, pesticide dealers, and administrators of environmental protection programs, governmental pest control programs, pesticide applicator certification programs (e.g., authorized agencies), and RUP dealers (only for EPA administrated programs). North American Industrial Classification System (NAICS) codes identified in question 12 of the ICR.

Respondent's obligation to respond: Mandatory. FIFRA sections 3 and 11, and 40 CFR part 171

Estimated number of potential respondents: 2,722,244.

Frequency of response: On occasion.

Total estimated average number of responses for each respondent: 249.

Total estimated burden: 3,350,304 hours (per year). Burden is defined at 5 CFR 1320.3(b).

Total estimated costs: $165,574,065 (per year), includes $0 annualized capital investment or maintenance and operational costs.

III. Are there changes in the estimates from the last approval?

There is a decrease of 315,095 hours in the total estimated respondent burden compared with that identified in the ICR currently approved by OMB. This decrease primarily reflects EPA's updating of burden estimates for this collection based upon respondents already having some familiarity with the regulations and certifying authorities having completed the more burden-intensive process of updating certification plans to comply with the updated 2017 requirements and shifting into the implementation phase of updating their certification programs. During this phase, certifying authorities may experience some paperwork burden if modifications to approved plans are needed, though these changes would only occur on an as-needed basis and are more limited in scale compared to the previous burden estimates. Additionally, EPA's estimates include updates to the number of total certified applicators, and associated noncertified applicators under their supervision, based on information reported by certifying authorities in their annual reports to the Agency. These changes are adjustments.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: October 18, 2025.
Nancy B. Beck,
Principal Deputy Assistant Administrator, Office of Chemical Safety and Pollution Prevention.

[FR Doc. 2025-20072 Filed 11-17-25; 8:45 am]

BILLING CODE 6560-50-P